DEPARTMENT OF ENERGY

Federal Energy Regulatory Commission

18 CFR Part 35

Filing of Rate Schedules and Tariffs

CFR Correction

In Title 18 of the Code of Federal Regulations, parts 1 to 399, revised as of April 1, 2015, in § 35.1, make the following changes:

1. On page 270, in paragraphs (d)(2) and (d)(3), add the phrase “, tariffs or service agreements” after the phrase “rate schedules”, and

2. On page 270, in paragraph (g), in the first sentence, add the word “service” before the third occurrence of the word “agreement”.

[FR Doc. 2016-07564 Filed 3-31-16; 8:45 am]

BILLING CODE 1505-01-D